NUCLEAR REGULATORY COMMISSION

[NRC-2010-0002]

Sunshine Federal Register Notice

Agency Holding the Meetings: Nuclear Regulatory Commission.

DATES: Weeks of March 22, 29, April 5, 12, 19, 26, 2010.

Place: Commissioners' Conference Room, 11555 Rockville Pike, Rockville, Maryland.

Status: Public and Closed.

Week of March 22, 2010

There are no meetings scheduled for the week of March 22, 2010.

Week of March 29, 2010—Tentative

Tuesday, March 30, 2010

9:30 a.m. Briefing on Safety Culture (Public Meeting) (Contact: Jose Ibarra, 301-415-2581).

This meeting will be webcast live at the Web address— http://www.nrc.gov.

Week of April 5, 2010—Tentative

Tuesday, April 6, 2010

9 a.m. Periodic Briefing on New Reactor Issues—Design Certifications (Public Meeting) (Contact: Amy Snyder, 301-415-6822).

This meeting will be webcast live at the Web address— http://www.nrc.gov.

Thursday, April 8, 2010

9:30 a.m. Briefing on Regional Programs—Programs, Performance, and Future Plans (Public Meeting) (Contact: Richard Barkley, 610-337-5065).

This meeting will be webcast live at the Web address— http://www.nrc.gov.

Week of April 12, 2010—Tentative

Thursday, April 15, 2010

9:30 a.m. Briefing on Resolution of Generic Safety Issue (GSI)—191, Assessment of Debris Accumulation on Pressurized Water Reactor (PWR) Sump Performance (Public Meeting) (Contact: Michael Scott, 301-415-0565).

This meeting will be webcast live at the Web address— http://www.nrc.gov.

Week of April 19, 2010—Tentative

There are no meetings scheduled for the week of April 19, 2010.

Week of April 26, 2010—Tentative

Thursday, April 29, 2010

9:30 a.m. Briefing on the Fuel Cycle Oversight Process Revisions (Public Meeting) (Contact: Michael Raddatz, 301-492-3108).

This meeting will be webcast live at the Web address— http://www.nrc.gov.

* * * * *

The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: March 18, 2010.
Rochelle C. Bavol,
Office of the Secretary.

[FR Doc. 2010-6468 Filed 3-19-10; 4:15 pm]

BILLING CODE 7590-01-P